Title 3—

The President

Executive Order 13747 of November 4, 2016

Advancing the Global Health Security Agenda To Achieve a World Safe and Secure From Infectious Disease Threats

By the authority vested in me as President by the Constitution and the laws of the United States of America, it is hereby ordered as follows:

Section 1. Policy. As articulated in the National Strategy for Countering Biological Threats and implemented in Presidential Policy Directive 2 (PPD-2), promoting global health security is a core tenet of our national strategy for countering biological threats. No single nation can be prepared if other nations remain unprepared to counter biological threats; therefore, it is the policy of the United States to advance the Global Health Security Agenda (GHSA), which is a multi-faceted, multi-country initiative intended to accelerate partner countries' measurable capabilities to achieve specific targets to prevent, detect, and respond to infectious disease threats (GHSA targets), whether naturally occurring, deliberate, or accidental. The roles, responsibilities, and activities described in this order will support the goals of the International Health Regulations (IHR) and will be conducted, as appropriate, in coordination with the World Health Organization (WHO), Food and Agriculture Organization of the United Nations (FAO), World Organisation for Animal Health (OIE), Global Partnership Against the Spread of Weapons and Materials of Mass Destruction, the International Criminal Police Organization (INTERPOL), and other relevant organizations and stakeholders. To advance the achievement of the GHSA targets and to support the implementation of the IHR within partner countries, each executive department, agency, and office (agency) shall, as appropriate, partner, consult, and coordinate with other governments, international financial institutions, international organizations, regional organizations, economic communities, and nongovernmental stakeholders, including the private sector.

Sec. 2. GHSA Interagency Review Council.

(a) GHSA Coordination and Policy Development. In furtherance of the policy described in section 1 of this order, I hereby direct the National Security Council staff, in accordance with the procedures and requirements in Presidential Policy Directive 1 (or any successor directive), to convene a GHSA Interagency Review Council (Council) to perform the responsibilities described in this order. The Assistant to the President for National Security Affairs, in coordination with the Assistant to the President for Homeland Security and Counterterrorism, shall designate a member of the National Security Council staff to serve as Chair for the Council. The Council shall meet not less than four times per year to advance its mission and fulfill its responsibilities.

(b) GHSA Interagency Review Council Responsibilities.

(i) The Council shall be responsible for the following activities:

(A) Provide, by consensus, policy-level guidance to participating agencies on GHSA goals, objectives, and implementation.

(B) Facilitate interagency, multi-sectoral engagement to carry out GHSA implementation.

(C) Provide a forum for raising and working to resolve interagency disagreements concerning the GHSA.

(D) Review the progress toward and work to resolve challenges in achieving U.S. commitments under the GHSA, including commitments to assist other countries in achieving the GHSA targets. The Council shall consider, among other issues, the status of U.S. financial commitments to the GHSA in the context of commitments by other donors, and the contributions of partner countries to achieve the GHSA targets; progress toward the milestones outlined in GHSA national plans for those countries where the United States Government has committed to assist in implementing the GHSA and in annual work-plans outlining agency priorities for implementing the GHSA; and external evaluations of United States and partner country capabilities to address infectious disease threats, including the ability to achieve the targets outlined within the WHO Joint External Evaluation (JEE) tool, as well as gaps identified by such external evaluations.

(E) Provide, by consensus, within 30 days of the date of this order, initial policy-level guidance on GHSA implementation.

(F) Develop a report on an annual basis regarding the progress achieved and challenges concerning the United States Government's ability to advance the GHSA across priority countries. The report shall include recommendations to resolve, mitigate, or otherwise address the challenges identified therein. The report shall be transmitted to the President and, to the extent possible, made publicly available.

(G) Conduct an overall review of the GHSA for submission to the President by September 2019. The review should include an evaluation of the progress achieved during the 5 years of this initiative, as well as any challenges faced. The report should also provide recommendations on the future direction of the initiative.

(ii) The Council shall not perform any activities or functions that interfere with the foreign affairs responsibilities of the Secretary of State, including the responsibility to oversee the implementation of programs and policies that advance the GHSA within foreign countries.

(c) Participation. The Council shall consist of representatives, serving at the Assistant Secretary level or higher, from the following agencies:

(i) the Department of State;

(ii) the Department of Defense;

(iii) the Department of Justice;

(iv) the Department of Agriculture;

(v) the Department of Health and Human Services;

(vi) the Department of Homeland Security;

(vii) the Office of Management and Budget;

(viii) the United States Agency for International Development;

(ix) the Environmental Protection Agency;

(x) the Centers for Disease Control and Prevention;

(xi) the Federal Bureau of Investigation;

(xii) the Office of Science and Technology Policy; and

(xiii) such other agencies as the agencies set forth above, by consensus, deem appropriate.

Sec. 3. Agency Roles and Responsibilities. In furtherance of the policy described in section 1 of this order, I hereby direct agencies to perform the following:

(a) The heads of agencies described in section 2(c) of this order shall:

(i) make the GHSA and its implementation a high priority within their respective agencies, and include GHSA-related activities within their respective agencies' strategic planning and budget processes;

(ii) designate a senior-level official to be responsible for the implementation of this order;

(iii) designate, in accordance with section 2(c) of this order, an appropriate representative at the Assistant Secretary level or higher to participate on the Council;

(iv) keep the Council apprised of GHSA-related activities undertaken within their respective agencies;

(v) maintain responsibility for agency-related programmatic functions in coordination with host governments, country teams, and GHSA in-country teams, and in conjunction with other relevant agencies;

(vi) coordinate with other agencies that are identified in this order to satisfy programmatic goals, and further facilitate coordination of country teams, implementers, and donors in host countries; and

(vii) coordinate across GHSA national plans and with GHSA partners to which the United States is providing assistance.

(b) The Secretary of State shall:

(i) engage Chiefs of Mission, country teams, and regional and functional bureaus within the Department of State to promote the GHSA with international partners and to facilitate country-level implementation of U.S. programmatic activities;

(ii) monitor and evaluate progress toward achieving GHSA targets, determine where more work is needed, and work with agencies and international partners to identify the partners best placed to improve performance and to achieve the GHSA targets for countries the United States has made a commitment to assist;

(iii) facilitate implementation and coordination of Department of State programs to further the GHSA, as well as provide technical expertise to measure and evaluate progress in countries the United States has made a commitment to assist;

(iv) coordinate planning, implementation, and evaluation of GHSA activities with the U.S. Global Malaria Coordinator at the United States Agency for International Development and the U.S. Global AIDS Coordinator at the Department of State in countries the United States has made a commitment to assist;

(v) lead diplomatic outreach, including at senior levels, in conjunction with other relevant agencies, to build international support for the GHSA with its members, other countries, and regional and multilateral bodies, including the Group of 7 (G7), the Group of 20 (G20), the African Union, the WHO, the OIE, the FAO, INTERPOL, the Global Partnership Against the Spread of Weapons and Materials of Mass Destruction, the European Union, the Asia-Pacific Economic Cooperation, the Association of Southeast Asian Nations, the Economic Community of West African States, the Organization of Islamic Cooperation, development banks, and other relevant partners;

(vi) work, in conjunction with other relevant agencies, with other donors and nongovernmental implementers in partner countries in order to leverage commitments to advance the GHSA with partners; and

(vii) coordinate, in conjunction with other relevant agencies, the United States Government relationship with foreign and domestic GHSA nongovernmental stakeholders, including the private sector, nongovernmental organizations, and foundations, and develop, with consensus from the Council, an annual GHSA nongovernmental outreach strategy.

(c) The Secretary of Defense shall:

(i) facilitate implementation and coordination of Department of Defense programs to further the GHSA, as well as provide technical expertise to measure and evaluate progress in countries the United States has made a commitment to assist;

(ii) work, in conjunction with interagency partners and the in-country GHSA team, with other donors and nongovernmental implementers in partner countries in which Department of Defense programs are active in order to coordinate and leverage commitments to advance the GHSA with partners; and

(iii) coordinate and communicate, in conjunction with other relevant agencies, with defense ministries with regard to the GHSA, including at the GHSA Ministerial and Steering Group.

(d) The Attorney General, generally acting through the Director of the Federal Bureau of Investigation (FBI), shall:

(i) serve, in conjunction with other relevant agencies, as the United States Government lead for GHSA targets relating to linking public health and law enforcement, and coordinate with INTERPOL on the GHSA and its successful implementation;

(ii) facilitate implementation and coordination of FBI programs to further the GHSA, as well as provide technical expertise to measure and evaluate progress in countries the United States has made a commitment to assist; and

(iii) work, in conjunction with interagency partners and the in-country GHSA team, with other donors and nongovernmental implementers in partner countries in which FBI programs are active in order to coordinate and leverage commitments to advance the GHSA with partners.

(e) The Secretary of Agriculture shall:

(i) represent, in conjunction with other relevant agencies, the United States in coordination and communication with the FAO and OIE with regard to the GHSA;

(ii) facilitate implementation and coordination of Department of Agriculture programs to further the GHSA, as well as provide technical expertise to measure and evaluate progress in countries the United States has made a commitment to assist; and

(iii) work, in conjunction with interagency partners and the in-country GHSA team, with other donors, contributing international organizations, and nongovernmental implementers in partner countries in which Department of Agriculture programs are active in order to coordinate and leverage commitments to advance the GHSA with partners.

(f) The Secretary of Health and Human Services shall:

(i) represent, in conjunction with other relevant agencies, the United States at GHSA Ministerial and Steering Group meetings and in working with G7 and G20 Health Ministers on the GHSA, and coordinate United States Government support for those activities;

(ii) provide overall leadership and coordination for the GHSA Action Packages (Action Packages), which consist of country commitments to advance and share best practices toward specific GHSA targets, including serving as the primary point of contact for the Action Packages, providing support to Action Package leaders, and tracking overall progress on the Action Packages;

(iii) coordinate United States Government support for and participation in external evaluations, including the WHO JEE tool and the Alliance for Country Assessments for Global Health Security and IHR Implementation;

(iv) represent, in conjunction with other relevant agencies, the United States in coordination and communication with the WHO regarding the GHSA;

(v) facilitate, no less than every 4 years, the request for an external assessment, such as the process outlined within the WHO JEE tool, of United States Government domestic efforts to implement the IHR and the GHSA and work to publish the assessment to the general public; and

(vi) consolidate and publish to the general public an external assessment of United States domestic capability to address infectious disease threats and implement the IHR, including the ability to achieve the targets outlined within the WHO JEE tool and including the gaps identified by such external assessment.

(g) The Secretary of Homeland Security shall:

(i) assess the impacts of global health threats on homeland security operations; and

(ii) lead, in conjunction with the Secretary of Health and Human Services, the Secretary of State, and the Secretary of Agriculture, United States Government GHSA activities related to global health threats at U.S. borders and ports of entry.

(h) The Administrator for the United States Agency for International Development shall:

(i) facilitate implementation and coordination of United States Agency for International Development programs to further the GHSA, as well as provide technical expertise to measure and evaluate progress in countries the United States has made a commitment to assist;

(ii) provide, in conjunction with other agencies, strategic technical guidance for achieving GHSA targets; and

(iii) work, in conjunction with interagency partners and the in-country GHSA teams, with other donors and nongovernmental GHSA implementers in partner countries in which United States Agency for International Development programs are active in order to coordinate and leverage commitments to advance the GHSA with partners.

(i) The Director of the U.S. Centers for Disease Control and Prevention, in coordination with the Secretary of Health and Human Services, shall:

(i) facilitate implementation and coordination of U.S. Centers for Disease Control and Prevention programs to further the GHSA, as well as provide technical expertise to measure and evaluate progress in countries the United States has made a commitment to assist;

(ii) provide, in conjunction with other agencies, strategic technical guidance for achieving GHSA targets;

(iii) provide, in coordination with the Department of Health and Human Services, strategic technical support for and participate in external assessments, including the WHO JEE tool, and the Alliance for Country Assessments for Global Health Security and IHR implementation; and

(iv) work, in conjunction with interagency partners and the in-country GHSA team, with other donors and nongovernmental implementers in partner countries in which the U.S. Centers for Disease Control and Prevention programs are active in order to coordinate and leverage commitments to advance the GHSA with partners.

Sec. 4. General Provisions. (a) Nothing in this order shall be construed to impair, or otherwise affect:

(i) the authority granted by law to an executive department, agency, or the head thereof;

(ii) the functions of the Director of the Office of Management and Budget relating to budgetary, administrative, or legislative proposals; or

(iii) the coordination or implementation of emergency response operations during a health emergency.

(b) This order shall be implemented consistent with applicable law, and subject to the availability of appropriations.

(c) This order is not intended to, and does not, create any right or benefit, substantive or procedural, enforceable at law or in equity by any party against the United States, its departments, agencies, or entities, its officers, employees, or agents, or any other person.

THE WHITE HOUSE,

November 4, 2016.

[FR Doc. 2016-27171

Filed 11-8-16; 8:45 am]

Billing code 3295-F7-P